DEPARTMENT OF AGRICULTURE

Natural Resources Conservation Service

Upper Hocking Watershed, Structure R-23, Fairfield County, OH

AGENCY: Natural Resources Conservation Service, USDA.

ACTION: Notice of a Finding of No Significant Impact.

SUMMARY: Pursuant to section 102(2)(c) of the National Environmental Policy Act of 1969; the Council on Environmental Quality Regulations (40 CFR part 1500); and the Natural Resources Conservation Service Rules (7 CFR part 650); the Natural Resources Conservation Service, U.S. Department of Agriculture, gives notice that an environmental impact statement is not being prepared for the rehabilitation of Structure R-23 in the Upper Hocking Watershed, in Fairfield County, Ohio.

FOR FURTHER INFORMATION CONTACT: Kevin Brown; State Conservationist; Natural Resources Conservation Service; 200 North High Street, Room 522, Columbus, Ohio 43215; telephone 614-255-2500.

SUPPLEMENTARY INFORMATION: The environmental assessment of this federally assisted action indicates that the project will not cause significant local, regional, or national effects on the human environment. As a result of these findings, Kevin Brown, State Conservationist, has determined that the preparation and review of an environmental impact statement are not needed for this project.

The project purpose is grade stabilization and erosion control. The action includes the rehabilitation of one dam. The Notice of a Finding of No Significant Impact (FONSI) has been forwarded to the Environmental Protection Agency; various Federal, state and local agencies; and interested parties. A limited number of copies of the FONSI are available to fill single copy requests at the above address. Basic data developed during the environmental assessment is on file and may be reviewed by contacting Kevin Brown.

No administrative action on implementation of the preferred alternative will be taken until 30 days after the date of this publication in the Federal Register.

Kevin Brown,
State Conservationist.

Finding of No Significant Impact for the Upper Hocking Watershed, Fairfield County, Ohio

Introduction

This undertaking is being planned and will be implemented under the authority of the emergency Watershed Protection Program (7 CFR 624). This program was enacted by Section 216 of Public Law 81-516, Section 403 of Public Law 95-334 (Title IV of the Agricultural Credit Act of 1978), and Section 382 of Public Law 104-127 (Title III of the 1996 Farm Bill). This action is being planned in accordance with Section 102(2)(c) of the National Environmental Policy Act of 1969, Public Law 91-190, as amended (42 U.S.C. 4321 et. seq.). The policy and procedures of the Watershed Protection and flood Prevention Act, Public Law 83-566, as amended (16 U.S.C. 1000-1008) are also being utilized for the planning and implementation of this undertaking.

The rehabilitation of the Upper Hocking Watershed Structure R-23 is a federally assisted action. An environmental assessment was completed for the action and was conducted in consultation with local, state, and federal agencies, as well as other interested organizations and individuals. Data developed during the assessment is available for public review at the following location: USDA Natural Resources Conservation Service, 200 North High St., Rm. 522, Columbus, Ohio 43215-2478

Preferred Alternative

The sponsors preferred alternative for the rehabilitation of Structure R-23 would be to upgrade the dam to meet state dam safety criteria for a medium hazard dam (NRCS Class B and ODNR Class II). Rehabilitation would include replacing the deteriorated principal spillway with a new riser and outlet pipe, and reconstructing the auxiliary spillway to increase the storage-discharge capacity of the dam to safely pass 50 percent of the probable maximum precipitation event without overtopping the embankment.

Effect of the Preferred Alternative

This alternative would fully meet the needs and desires of the sponsors and the public by protecting public health and safety while also meeting all applicable dam safety and performance standards. This alternative would greatly diminish the potential for dam failure. Total cost of this alternative is estimated to be $125,000.00.

Construction activities would require draining the 5-acre pond, and removing part of the dam, to accomplish riser and pipe removal and replacement. It is anticipated that the project construction activities would take approximately 6 weeks. At least 4 landowners must drive across the private road on top of the dam to get to their residences. During the construction period, this road would be closed to the public. A temporary access road to the homes would be made part of the project.

Temporary displacement of wildlife, aquatic species, and fish that use the lake would occur during construction. The water would be lowered very slowly to minimize impacts to the wildlife, aquatic species, and fish. In the long term, use of the area by wildlife and aquatic species should return to pre-construction levels. After the project is completed, the pond would be restocked with fish as per the concerns of the surrounding landowners.

About 5 acres would be temporarily disturbed due to the construction of this project. All disturbed areas on the fill and in the emergency spillway will be seeded to an erosion controlling grass.

This action will have no effect on wetlands, rare, or threatened and endangered species, and prime or unique farmland. Air quality in the watershed will be essentially unaffected by the rehabilitation project. There will be brief, temporary increases in noise levels and pollution of air from dust and exhaust emissions, which are inherent in earth moving construction processes.

An environmental assessment was completed as part of the planning process. An inventory for cultural resources was completed as part of the environmental assessment. The Ohio Historic Preservation Office has submitted written notification, in accordance with the provisions of Section 106 of the National Historic Preservation Act, as amended, and the Act's implementing regulations, 36 CFR 800, that there is little likelihood the project will encounter significant archaeological sites or buildings. It is of their opinion that the proposed work will not affect historic properties. Concerns have been addressed from contacted tribes. If there is a significant cultural resource discovery during construction, appropriate notice will be made by NRCS to the state Historic Preservation Officer. NRCS will take action as prescribed in NRCS General Manual 420, Part 401, to protect or recover any significant cultural resource during construction.

Alternatives

The preferred alternative is the most practical alternative to meet the purpose and needs of this action. Three alternatives were considered: (1) No Action, (2) Decommission the Structure, and (3) Structure Rehabilitation.

Consultation—Public Participation

Meetings were held with the project sponsors in June, July, and December of 2001, and April of 2002. On April 23, 2002, the sponsors held a public meeting. In addition, letter requests for concerns and issues were sent to federal and state agencies, and organizations. All concerns and issues were addressed in the environmental assessment.

Conclusion

The environmental assessment summarized above indicates that this Federal action will not cause significant local, regional, or national impacts on the human environment. Therefore, based on the above findings, I have determined that an environmental impact statement is not required for the rehabilitation of the Upper Hocking Watershed Structure R-23.

Dated: August 30, 2002.
Kevin Brown,
State Conservationist.

[FR Doc. 02-23684 Filed 9-17-02; 8:45 am]

BILLING CODE 3410-16-P